DEPARTMENT OF ENERGY

Federal Energy Regulatory Commission

[Docket No. EC00-55-000, et al.]

CP&L Holdings, Inc., et al. Electric Rate and Corporate Regulation Filings

June 6, 2000.

Take notice that the following filings have been made with the Commission:

1. CP&L Holdings, Inc., on Behalf of Its Public Utility Subsidiaries and Florida Progress Corporation on Behalf of Its Public Utility Subsidiaries

[Docket Nos. EC00-55-000 and ER00-1520-000]

Take notice that on May 31, 2000, CP&L Energy, Inc. and Florida Progress Corporation on behalf of themselves and their FERC-jurisdictional subsidiaries (collectively, the Applicants) tendered for filing pursuant to Section 203 of the Federal Power Act and the Federal Energy Regulatory Commission's regulations thereunder Exhibit G to the Joint Application For Authorization to Merge Facilities and Related Transactions that was previously filed on February 3, 2000. Exhibit G contains copies of applications filed with other Federal or state regulatory bodies in connection with the proposed transaction.

Comment date: June 21, 2000, in accordance with Standard Paragraph E at the end of this notice.

2. Maine Public Service Company

[Docket No. ER00-1053-001]

Take notice that on May 31, 2000, Maine Public Service Company (MPS), tendered for filing pursuant to Section 205 of the Federal Power Act and Part 35 of the Commission's Regulations, revised sheets to its Open Access Transmission Tariff (OATT) in compliance with the Commission's March 10, 2000 “Order Accepting For Filing Revised Open Access Transmission Tariff, Rejecting Certain Non-Rate Terms and Conditions, Suspending Transmission Rates, And Establishing Hearing Procedures,” Maine Public Service Co., 90 FERC ¶ 61,234 (2000) (March 10 Order).

Comment date: June 21, 2000, in accordance with Standard Paragraph E at the end of this notice.

3. Potomac Electric and Power Company

[Docket No. ER00-2639-000]

Take notice that on May 31, 2000, Potomac Electric and Power Company (PEPCO), submitted for filing executed netting agreements between PEPCO and DTE Energy Trading, Inc., Rainbow Energy Marketing Corporation, Aquila Energy Marketing Corporation, American Electric Power Service Corporation, El Paso Merchant Energy, L.P., PPL Electric Utilities Corporation, Public Service Electric & Gas Company Tenaska Power Services Co., Duke Energy Trading and Marketing , L.L.C. and Williams Energy Marketing and Trading Company, respectively (the Counterparties).

Copies of the filing were served upon the Counterparties.

Comment date: June 21, 2000, in accordance with Standard Paragraph E at the end of this notice.

4. Central Vermont Public Service Corporation

[Docket No. ER00-2640-000]

Take notice that on May 31, 2000, Central Vermont Public Service Corporation (CVPS) tendered for filing the Actual 1999 Cost Report required under Paragraph Q-1 on Original Sheet No. 18 of the Rate Schedule FERC No. 135 (RS-2 Rate Schedule) under which Central Vermont Public Service Corporation (Company) sells electric power to Connecticut Valley Electric Company Inc. (Customer). The Company states that the Cost Report reflects changes to the RS-2 Rate Schedule which were approved by the Commission's June 6, 1989 order in Docket No. ER88-456-000.

Copies of the filing were served upon the Customer, Vermont Public Service Board, and New Hampshire Public Utilities Commission.

Comment date: June 21, 2000, in accordance with Standard Paragraph E at the end of this notice.

5. Public Service Company of New Mexico

[Docket No. ER00-2642-000]

Take notice that on May 31, 2000, Public Service Company of New Mexico (PNM) submitted for filing an executed copy of the Algodones Participation Agreement (Agreement) dated May 25, 2000, between PNM and Tri-State Generation and Transmission Association, Inc. (Tri-State). The Agreement sets forth terms and conditions by which PNM and Tri-State will abide in their respective ownership of the Algodones Generating Station. PNM's filing is available for public inspection at its offices in Albuquerque, New Mexico.

Copies of this filing have been served upon Tri-State and the New Mexico Public Regulation Commission.

Comment date: June 21, 2000, in accordance with Standard Paragraph E at the end of this notice.

6. Southwest Power Pool, Inc.

[Docket No. ER00-2644-000]

Take notice that on May 31, 2000, Southwest Power Pool, Inc. (SPP), tendered for filing an unexecuted service agreement with the Kansas Municipal Energy Agency (KMEA) for long-term firm point-to-point transmission service under the SPP Open Access Transmission Tariff. This agreement was filed at the direction of KMEA.

Copies of this filing were served upon KMEA.

Comment date: June 21, 2000, in accordance with Standard Paragraph E at the end of this notice.

7. Allegheny Energy Service Corporation on behalf of Allegheny Energy Supply Company, LLC

[Docket No. ER00-2645-000]

Take notice that on May 31, 2000, Allegheny Energy Service Corporation on behalf of Allegheny Energy Supply Company, LLC (Allegheny Energy Supply), tendered for filing Supplement No. 43 to add one (1) new Customer to the Market Rate Tariff under which Allegheny Energy Supply offers generation services.

Allegheny Energy Supply requests a waiver of notice requirements to make service available as of May 1, 2000 or on a date as determined by the Commission to Edison Mission Marketing & Trading, Inc.

Copies of the filing have been provided to the Public Utilities Commission of Ohio, the Pennsylvania Public Utility Commission, the Maryland Public Service Commission, the Virginia State Corporation Commission, the West Virginia Public Service Commission, and all parties of record.

Comment date: June 21, 2000, in accordance with Standard Paragraph E at the end of this notice.

8. Public Service Company of New Mexico

Docket No. ER00-2643-000

Take notice that on May 31, 2000, Public Service Company of New Mexico (PNM) tendered for filing two executed service agreements, dated May 23, 2000, with the Incorporated County of Los Alamos (County), under the terms of PNM's Open Access Transmission Service Tariff (OATT). One agreement is for 10 MW of firm point-to-point transmission service, and supplements an existing service agreement between PNM and County, dated April 21, 1999. Under the service agreement PNM provides County with an additional 10 MW of firm point-to-point transmission service from PNM's San Juan Generating Station 345 kV Switchyard (point of receipt) to PNM's Norton or ETA points of interconnection with County. The other agreement is an Amendment (Amendment Number One, dated May 23, 2000) to an existing Control Area Service Agreement dated April 21, 1999 (also under PNM's OATT), that includes all of the necessary modifications to incorporate the additional 10 MW of firm point-to-point transmission service into all relevant control area service load and resource descriptions and ancillary services calculations. PNM's filings are available for public inspection at PNM's offices in Albuquerque, New Mexico.

Comment date: June 21, 2000, in accordance with Standard Paragraph E at the end of this notice.

9. Allegheny Energy Service Corporation, on behalf of Allegheny Energy Supply Company, LLC

[Docket No. ER00-2646-000]

Take notice that on May 31, 2000, Allegheny Energy Service Corporation on behalf of Allegheny Energy Supply Company, LLC (AE Supply), tendered for filing a Service Agreement with The Potomac Edison Company d/b/a Allegheny Power in order for Allegheny Power to supply Standard Offer Service to its Maryland customers.

AE Supply has requested a waiver of notice to make the Service Agreement effective on July 1, 2000.

Copies of the filing have been provided to the customer and to the Maryland Public Service Commission.

Comment date: June 21, 2000, in accordance with Standard Paragraph E at the end of this notice.

10. Pacific Gas and Electric Company

[Docket No. ER00-2647-000]

Take notice that on May 31, 2000, Pacific Gas and Electric Company (PG&E) tendered for filing: (1) a letter agreement executed March 28, 2000; and (2) proposed revisions to Appendix E, “Billing Demands for Reserved Transmission Service,” of the Interconnection Agreement (IA) between PG&E and Sacramento Municipal Utility District (SMUD). The IA was initially filed under FERC Docket No. ER90-567-000 and was designated PG&E Rate Schedule FERC No. 136.

Copies of this filing have been served upon SMUD and the California Public Utilities Commission.

Comment date: June 21, 2000, in accordance with Standard Paragraph E at the end of this notice.

11. Boston Edison Company

[Docket No. ER00-2649-000]

Take notice that on May 31, 2000, Boston Edison Company (Boston Edison) tendered for filing a Standstill Agreement between itself and New England Power Company (NEP) as successor-in-interest to Montaup Electric Company (Montaup). The Standstill Agreement extends through September 25, 2000 the time in which NEP may institute a legal challenge to the 1998 true-up bill under Boston Edison's FERC Rate Schedule No. 69, governing sales to Montaup from the Pilgrim Nuclear Station.

Boston Edison requests waiver of the Commission's notice requirement to allow the Standstill Agreement to become effective May 29, 2000.

Comment date: June 21, 2000, in accordance with Standard Paragraph E at the end of this notice.

12. FirstEnergy Operating Companies Orion Power MidWest, L.P.

[Docket No. ER00-2650-000]

Take notice that on May 31, 2000, the FirstEnergy Operating Companies and Orion Power MidWest, L.P. tendered for filing under section 205 of the Federal Power Act a reactive supply and voltage control service agreement. The agreement is a result of the generation exchange between FirstEnergy and Duquesne Light Company previously approved by the Commission, and Duquesne's subsequent divestiture of its generation units to Orion Power MidWest, also approved by the Commission. Due to these transfers, Orion Power MidWest now owns baseload generating units within FirstEnergy's control area. The prior agreement for reactive service between FirstEnergy and Duquesne is to be canceled upon the effective date of the agreement between FirstEnergy and Orion Power MidWest.

Copies of the filing were served upon the Pennsylvania Public Utility Commission and the Public Utilities Commission of Ohio.

Comment date: June 21, 2000, in accordance with Standard Paragraph E at the end of this notice.

13. Allegheny Energy Service Corporation on behalf of Allegheny Energy Supply Company, LLC

[Docket No. ER00-2651-000]

Take notice that on May 31, 2000, Allegheny Energy Service Corporation on behalf of Allegheny Energy Supply Company, LLC (Allegheny Energy Supply) filed Supplement No. 44 to add one (1) new Customer to the Market Rate Tariff under which Allegheny Energy Supply offers generation services.

Allegheny Energy Supply requests a waiver of notice requirements to make service available as of May 2, 2000 to Columbia Power Marketing Corporation.

Copies of the filing have been provided to the Public Utilities Commission of Ohio, the Pennsylvania Public Utility Commission, the Maryland Public Service Commission, the Virginia State Corporation Commission, the West Virginia Public Service Commission, and all parties of record.

Comment date: June 21, 2000, in accordance with Standard Paragraph E at the end of this notice.

14. New York Independent System Operator, Inc.

[Docket No. ER00-2652-000]

Take notice that on May 31, 2000, the New York Independent System Operator, Inc. (NYISO) filed amendments to the ISO Agreement.

The NYISO requests an effective date of April 19, 2000 and waiver of the Commission's notice requirements.

A copy of this filing was served upon all persons who have signed the ISO Agreement and on the electric utility regulatory agencies in New York, New Jersey and Pennsylvania.

Comment date: June 21, 2000, in accordance with Standard Paragraph E at the end of this notice.

15. Northeast Utilities Service Company

[Docket No. ER00-2653-000]

Take notice that on May 31, 2000, Northeast Utilities Service Company (NUSCO), on behalf of The Connecticut Light and Power Company (CL&P) tendered for filing an Interim Interconnection Agreement and a Operating and License Agreement with Connecticut Resources Recovery Authority (CRRA).

NUSCO requests an effective date of June 1, 2000.

NUSCO states that a copy of this filing was mailed to CRRA.

Comment date: June 21, 2000, in accordance with Standard Paragraph E at the end of this notice.

16. New England Power Pool

[Docket No. ER00-2654-000]

Take notice that on May 31, 2000, the New England Power Pool (NEPOOL), Participants Committee filed for acceptance a signature page to the New England Power Pool Agreement dated September 1, 1971, as amended, signed by the State of Maine, Office of the Governor (MEGOV). The NEPOOL Agreement has been designated NEPOOL FPC No. 2.

The Participants Committee states that the Commission?s acceptance of MEGOV?s signature page would permit NEPOOL to expand its membership to include MEGOV. The Participants Committee further states that the filed signature page does not change the NEPOOL Agreement in any manner, other than to make MEGOV a member in NEPOOL.

The Participants Committee requests an effective date of August 1, 2000, for commencement of participation in NEPOOL by MEGOV.

Comment date: June 21, 2000, in accordance with Standard Paragraph E at the end of this notice.

17. New England Power Pool

[Docket No. ER00-2655-000]

Take notice that on May 31, 2000, the New England Power Pool (NEPOOL) Participants Committee tendered for filing for acceptance a signature page to the New England Power Pool Agreement dated September 1, 1971, as amended, signed by Virginia Electric and Power Company (Virginia Power). The NEPOOL Agreement has been designated NEPOOL FPC No. 2.

The Participants Committee states that the Commission?s acceptance of Virginia Power?s signature page would permit NEPOOL to expand its membership to include Virginia Power. The Participants Committee further states that the filed signature page does not change the NEPOOL Agreement in any manner, other than to make Virginia Power a member in NEPOOL.

The Participants Committee requests an effective date of June 1, 2000, for commencement of participation in NEPOOL by Virginia Power.

Comment date: June 21, 2000, in accordance with Standard Paragraph E at the end of this notice.

18. New England Power Pool

[Docket No. ER00-2656-000]

Take notice that on June 1, 2000, the New England Power Pool (NEPOOL) Participants Committee filed for acceptance a signature page to the New England Power Pool Agreement dated September 1, 1971, as amended, signed by the Connecticut Energy Cooperative (Co-op). The NEPOOL Agreement has been designated NEPOOL FPC No. 2.

The Participants Committee states that the Commission's acceptance of Co-op's signature page would permit NEPOOL to expand its membership to include Co-op. The Participants Committee further states that the filed signature page does not change the NEPOOL Agreement in any manner, other than to make Co-op a member in NEPOOL.

The Participants Committee requests an effective date of June 1, 2000, for commencement of participation in NEPOOL by Co-op.

Comment date: June 21, 2000, in accordance with Standard Paragraph E at the end of this notice.

19. New England Power Pool

[Docket No. ER00-2657-000]

Take notice that on May 31, 2000, the New England Power Pool (NEPOOL), Participants Committee tendered for filing for acceptance a signature page to the New England Power Pool Agreement dated September 1, 1971, as amended, signed by the Massachusetts Energy Buyers Coalition (MEBC). The NEPOOL Agreement has been designated NEPOOL FPC No. 2.

The Participants Committee states that the Commission's acceptance of MEBC's signature page would permit NEPOOL to expand its membership to include MEBC. The Participants Committee further states that the filed signature page does not change the NEPOOL Agreement in any manner, other than to make MEBC a member in NEPOOL.

The Participants Committee requests an effective date of June 1, 2000, for commencement of participation in NEPOOL by MEBC.

Comment date: June 21, 2000, in accordance with Standard Paragraph E at the end of this notice.

20. New England Power Pool

[Docket No. ER00-2658-000]

Take notice that on May 31, 2000, the New England Power Pool (NEPOOL), Participants Committee filed for acceptance a signature page to the New England Power Pool Agreement dated September 1, 1971, as amended, signed by IRATE, Inc. (IRATE). The NEPOOL Agreement has been designated NEPOOL FPC No. 2.

The Participants Committee states that the Commission's acceptance of IRATE's signature page would permit NEPOOL to expand its membership to include IRATE. The Participants Committee further states that the filed signature page does not change the NEPOOL Agreement in any manner, other than to make IRATE a member in NEPOOL.

The Participants Committee requests an effective date of June 1, 2000, for commencement of participation in NEPOOL by IRATE.

Comment date: June 21, 2000, in accordance with Standard Paragraph E at the end of this notice.

21. Preferred Energy Services, Inc.

[Docket No. ER00-2659-000]

Take notice that on May 30, 2000, Preferred Energy Services, Inc. filed a notice of withdraw of its Federal Energy Regulatory Commission's (FERC) Power Marketing certification.

Comment date: June 20, 2000, in accordance with Standard Paragraph E at the end of this notice.

22. MidAmerican Energy Company

[Docket No. ER00-2660-000]

Take notice that on May 31, 2000, MidAmerican Energy Company (MidAmerican), 666 Grand Avenue, Des Moines, Iowa 50309, filed with the Commission a Generation Interconnection Contract entered into by MidAmerican, as a provider of transmission and distribution delivery services, MidAmerican Energy Company (Merchant), as a wholesale merchant, dated May 22, 2000, pursuant to MidAmerican's Open Access Transmission Tariff and the Commission's order in Tennessee Power Company, 90 FERC ¶ 61,238 (2000).

MidAmerican requests an effective date of May 5, 2000 for the Contract and seeks a waiver of the Commission's notice requirement.

MidAmerican has served a copy of the filing on Merchant, the Iowa Utilities Board, the Illinois Commerce Commission and the South Dakota Public Utilities Commission.

Comment date: June 21, 2000, in accordance with Standard Paragraph E at the end of this notice.

23. Calcasieu Power, LLC

[Docket No. ER00-2661-000]

Take notice that on May 31, 2000, Calcasieu Power, LLC, tendered for filing a Power Purchase Agreement for short-term transactions between Calcasieu Power, LLC and Dynegy Power Marketing, Inc., to be in effect as of May 25, 2000.

Comment date: June 21, 2000, in accordance with Standard Paragraph E at the end of this notice.

24. West Texas Utilities Company

[Docket No. ER00-2662-000]

Take notice that on May 31, 2000, West Texas Utilities Company (WTU), tendered for filing a Letter Agreement between WTU and the City of Coleman, Texas (Coleman). Under the agreement, WTU will make additional energy available to Coleman during the on-peak hours of the summer months of 2000, pursuant to a Supplemental Sales Agreement between WTU and Coleman, previously filed with the Commission.

WTU requests an effective date of June 1, 2000. Accordingly, WTU seeks waiver of the Commission's notice requirements.

WTU states that copies of this filing have been served on Coleman and the Public Utility Commission of Texas.

Comment date: June 21, 2000, in accordance with Standard Paragraph E at the end of this notice.

25. Commonwealth Edison Company

[Docket No. ER00-2663-000]

Take notice that on May 31, 2000, Commonwealth Edison Company (ComEd), tendered for filing a Non-Firm Transmission Service Agreement with Wabash Valley Power Association (WVPA), and three Short-Term Firm Transmission Service Agreements with WVPA, Western Resources, Inc. (WR), and El Paso Merchant Energy, L.P. (EPME) under the terms of ComEd's Open Access Transmission Tariff (OATT).

ComEd requests an effective date of May 12, 2000, for the two agreements with WVPA, an effective date of May 10, 2000 for the agreement with WR, and an effective date of May 5, 2000 for the agreement with EPME, and accordingly, seeks waiver of the Commission's notice requirements.

Comment date: June 21, 2000, in accordance with Standard Paragraph E at the end of this notice.

26. Commonwealth Edison Company

[Docket No. ER00-2664-000]

Take notice that on May 31, 2000, Commonwealth Edison Company (ComEd), tendered for filing a Service Agreement for Network Integration Service (Service Agreement) and a Network Operating Agreement (Operating Agreement) between ComEd and Dynegy Energy Services, Inc. (DESY). These agreements will govern ComEd's provision of network service to serve retail load under the terms of ComEd's Open Access Transmission Tariff (OATT).

ComEd requests an effective date of May 5, 2000, and accordingly, seeks waiver of the Commission's notice requirements.

Copies of this filing were served on DESY.

Comment date: June 21, 2000, in accordance with Standard Paragraph E at the end of this notice.

27. Jersey Central Power & Light Company

[Docket No. ER00-2665-000]

Take notice that on May 31, 2000, Jersey Central Power & Light Company (Jersey Central), tendered for filing amendments to the Interconnection Agreement by and between AmerGen Energy Company, L.L.C., and Jersey Central.

Copies of the filing were served upon AmerGen and regulators in the State of New Jersey.

Comment date: June 21, 2000, in accordance with Standard Paragraph E at the end of this notice.

28. Orion Power MidWest, L.P.

[Docket No. ER00-2666-000]

Take notice that on May 31, 2000 Orion Power MidWest, L.P. (Orion Power MidWest) filed with the Federal Energy Regulatory Commission a Master Power Purchase and Sale Agreement with Constellation Power Source, Inc. that will govern short-term sales of energy under Orion Power MidWest's market-based rate tariff, FERC Electric Rate Tariff, Volume No. 1.

Comment date: June 21, 2000, in accordance with Standard Paragraph E at the end of this notice.

29. American Electric Power Service Corporation

[Docket No. ER00-2667-000]

Take notice that on May 31, 2000, the American Electric Power Service Corporation (AEPSC), tendered for filing executed Firm and Non-Firm Point-to-Point Transmission Service Agreements for Pepco Energy Services and The Legacy Energy Group, LLC. The agreements are pursuant to the AEP Companies' Open Access Transmission Service Tariff (OATT). The OATT has been designated as FERC Electric Tariff Original Volume No. 4, effective July 9, 1996.

AEPSC requests waiver of notice to permit the Service Agreements to be made effective for service billed on and after May 1, 2000.

A copy of the filing was served upon the Parties and the state utility regulatory commissions of Indiana, Kentucky, Michigan, Ohio, Tennessee, Virginia and West Virginia.

Comment date: June 21, 2000, in accordance with Standard Paragraph E at the end of this notice.

30. Metropolitan Edison Company and Pennsylvania Electric Company

[Docket No. ER00-2668-000]

Take notice that on May 31, 2000, Metropolitan Edison Company (MetEd) and Pennsylvania Electric Company (Penelec) tender for filing Attachments H-5A and H-6A of the PJM Open Access Transmission Tariff setting forth “Other Supporting Facilities Charges” for service to certain municipal utilities utilizing the lower voltage facilities of MetEd and Penelec.

Comment date: June 21, 2000, in accordance with Standard Paragraph E at the end of this notice.

31. Central Maine Power Company

[Docket No. ER00-2669-000]

Take notice that on May 31, 2000, Central Maine Power Company (CMP), tendered for filing an unexecuted Construction, Procurement and Continuing Obligations Agreement between CMP and Casco Bay Energy Company, LLC.

Comment date: June 21, 2000, in accordance with Standard Paragraph E at the end of this notice.

32. MultiFuels Marketing Co.

[Docket No. ER00-2670-000]

Take notice that on May 31, 2000, MultiFuels Marketing Co. (MFM) filed a supplement to its application for market-based rates as power marketer.

Comment date: June 21, 2000, in accordance with Standard Paragraph E at the end of this notice.

33. Central Vermont Public Service Corporation

[Docket No. ER00-2641-000]

Take notice that on May 31, 2000, Central Vermont Public Service Corporation (CVPS) tendered for filing the Actual 1999 Cost Report required under Article 2.4 on Second Revised Sheet No. 18 of FERC Electric Tariff, Original Volume No. 3, of Central Vermont under which Central Vermont provided transmission and distribution service to the following Customers during 1999:

Vermont Electric Cooperative, Inc.

Lyndonville Electric Department

Village of Ludlow Electric Light Department

Village of Johnson Water and Light Department

Village of Hyde Park Water and Light Department

Rochester Electric Light and Power Company

Woodsville Fire District Water and Light Department

Copies of the filing were served upon the Customers, Vermont Public Service Board, and New Hampshire Public Utilities Commission.

Comment date: June 21, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-15090 Filed 6-14-00; 8:45 am]

BILLING CODE 6717-01-P